DEPARTMENT OF ENERGY

Federal Energy Regulatory Commission

[Project No. 14677-001]

Clark Canyon Hydro, LLC; Notice of Application Tendered for Filing With the Commission, Soliciting Additional Study Requests, Intent To Waive Parts of the Pre-Filing Three Stage Consultation Process, and Intent To Waive Scoping and Establish an Expedited Schedule for Processing

Take notice that the following hydroelectric application has been filed with the Commission and is available for public inspection.

a. Type of Application: Original License for a Major Water Power Project at an Existing Dam, 5 Megawatts or Less.

b. Project No.: 14677-001.

c. Date filed: November 23, 2015.

d. Applicant: Clark Canyon Hydro, LLC.

e. Name of Project: Clark Canyon Dam Hydroelectric Project.

f. Project Description: The Clark Canyon Dam Hydroelectric Project would utilize the U.S. Bureau of Reclamation's Clark Canyon Dam and outlet works including an intake structure and concrete conduit in the reservoir. The project would also consist of the following new facilities: (1) A 360-foot-long, 8-foot-diameter steel penstock within the existing concrete conduit, ending in a trifurcation; (2) two 35-foot-long, 8-foot-diameter penstocks extending from the trifurcation to the powerhouse, transitioning to 6-foot-diameter before entering the powerhouse; (3) a 10-foot-long, 8-foot-diameter steel penstock leaving the trifurcation and ending in a 7-foot-diameter cone valve and reducer to control discharge into the existing outlet stilling basin; (4) a 65-foot-long, 46-foot-wide reinforced concrete powerhouse containing two vertical Francis-type turbine/generator units with a total capacity of 4.7 megawatts; (5) two 25-foot-long steel draft tubes transitioning to concrete draft tube/tailrace section; (6) a 17-foot-long, 15-foot-diameter tailrace channel connecting with the existing spillway stilling basin; (7) a 45-foot-long, 10-foot-wide aeration basin downstream of the powerhouse with three frames containing 330 diffusers; (8) a 1,100-foot-long, 4.16-kilovolt (kV) buried transmission line from the powerhouse to a substation; (9) a substation containing step-up transformers and switchgear; (10) a 7.9-mile-long, 69-kV transmission line extending from the project substation to the Peterson Flat substation (the point of interconnection); and (11) appurtenant facilities. The estimated annual generation of the Clark Canyon Dam Project would be 15.4 gigawatt-hours. All project facilities would be located on federal lands owned by the U.S. Bureau of Reclamation and the U.S. Bureau of Land Management. The applicant proposes to operate the project as run-of-release.

g. Location: The project is located on Beaverhead River near the town of Dillon, Beaverhead County, Montana. The project would occupy 62.1 acres of land owned by the U.S. Bureau of Reclamation and 0.2 acres of land owned by the U.S. Bureau of Land Management.

h. Filed Pursuant to: 18 CFR 4.61 of the Commission's regulations.

i. Applicant Contact: John Gangemi, (406) 249-3972, email at john.gangemi@erm.com.

j. FERC Contact: Kelly Wolcott, (202) 502-6480, email at kelly.wolcott@ferc.gov.

k. A copy of the application is available for review at the Commission in the Public Reference Room or may be viewed on the Commission's Web site at http://www.ferc.gov using the “eLibrary” link. Enter the docket number excluding the last three digits in the docket number field to access the document (P-14677). For assistance, contact FERC Online Support at FERCONlineSupport@ferc.gov or toll free at 1-866-208-3676, or for TTY (202) 502-8659.

Register online at http://www.ferc.gov/docs-filing/esubscription.asp to be notified via email of new filings and issuances related to this or other pending projects. For assistance, contact FERC Online Support.

l. Cooperating Agencies: We are asking Federal, state, and local agencies and Indian tribes with jurisdiction and/or special expertise with respect to environmental issues to cooperate with us in the preparation of the environmental document. Agencies who would like to request cooperating status should follow the instructions for filing comments described in item n below.

Cooperating agencies should note the Commission's policy that agencies that cooperate in the preparation of the environmental document cannot also intervene. See 94 FERC ¶ 61,076 (2001).

m. Deadline for filing additional study requests: Because the current proposal is substantially the same as the applicant's previously licensed but unconstructed project (P-12429), the applicant's close coordination with tribal, state, and federal agencies during the preparation of the application, and the lack of comments on the draft application, we are waiving the 60-day timeframe specified in 18 CFR 4.32(b)(7) for filing additional study requests and requiring all additional study requests to be filed 30 days from the date the license application was filed.

All documents may be filed electronically via the Internet in lieu of paper. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street NE., Washington, DC 20426.

n. The applicant requested that the Commission only solicit competing applications for 30 days, and not notices of intent to file competing applications. For the reasons noted in item m and to expedite the licensing process, we intend to solicit competing applications for 30 days, but will allow notices of intent to be filed to ensure sufficient opportunity for competing applications to be filed.

o. Preliminary procedural schedule: Commission staff has determined that the issues that need to be addressed in its environmental analysis pursuant to the National Environmental Policy Act (NEPA) have been adequately identified in the previous licensing proceeding and during the applicant's public meeting and site visit, and no new issues are likely to be identified through additional scoping. Therefore, we intend to accept the consultation that has occurred on this project during the pre-filing period as satisfying our requirements for the standard 3-stage consultation process under 18 CFR 4.38 and for National Environmental Policy Act scoping and prepare a single environment assessment. To further expedite the licensing process, once we have found the application acceptable and ready for environmental analysis, we also intend to waive 4.34(b) of the Commission's regulations to require the filing of comments, terms and conditions or prescriptions within 30 days of the notice and the reply comments with 45 days of the notice. The application will be processed according to the following preliminary procedural schedule. Revisions to the schedule may be made as appropriate.

Milestone | Target date
Additional study requests and comments on waivers due | December 23, 2015.
Issue notice of acceptance and ready for environmental analysis | January 5, 2016.
Comments, recommendations, and terms and conditions due | February 4, 2016.
Reply comments due | February 19, 2016.
Notice of the availability of the EA | May 1, 2016.

Dated: December 4, 2015.
Nathaniel J. Davis, Sr.,
Deputy Secretary.

[FR Doc. 2015-31127 Filed 12-9-15; 8:45 am]

BILLING CODE 6717-01-P